DEPARTMENT OF TRANSPORTATION

Federal Highway Administration

[Docket No. FHWA-2000-8194]

Agency Information Collection Activities; Request for Comments; Renewed Approval of Seven Information Collections

AGENCY: Federal Highway Administration (FHWA), DOT.

ACTION: Notice and request for comments.

SUMMARY: The FHWA invites public comments about our intention to request the Office of Management and Budget's (OMB) approval to renew seven information collections which are summarized below under Supplementary Information. We are required to publish this notice in the Federal Register by the Paperwork Reduction Act of 1995.

DATES: Please submit comments by January 5, 2001.

ADDRESSES: You may mail or hand deliver comments to the U.S. Department of Transportation, Dockets Management Facility, Room PL-401, 400 Seventh Street, SW., Washington, DC 20590; telefax comments to 202/493-2251; or submit electronically at http://dmses.dot.gov/submit. All comments should include the docket number in this notice's heading as well as the OMB control number referencing the specific information collection that is being addressed. All comments may be examined and copied at the above address from 9 a.m. to 5 p.m., Monday through Friday, except Federal holidays. If you desire a receipt you must include a self-addressed stamped envelope or postcard or, if you submit your comments electronically, you may print the acknowledgment page.

PUBLIC COMMENTS INVITED: You are asked to comment on any aspect of these information collections, including: (1) Whether the proposed collections are necessary for the FHWA's performance; (2) the accuracy of estimated burdens; (3) ways for the FHWA to enhance the quality, usefulness, and clarity of the collected information; and (4) ways that burdens could be minimized, including use of electronic technology, without reducing the quality of the collected information. The agency will summarize and/or include your comments in the request for OMB's clearance of these information collections.

SUPPLEMENTARY INFORMATION: 1. Title: Bid Price Data.

OMB Control Number: 2125-0010 (Expiration Date: March 31, 2001).

Abstract: Information collected on Form FHWA-45, Bid Price Data, is needed for the FHWA to monitor changes in purchasing power of the Federal-aid construction dollar. FHWA follows these trends so that changes in highway construction prices can be measured and funding level recommendations to Congress can be justified. The Federal share of the cost of certain projects constructed by the States in advance of regular apportionments is adjusted based on the bid price index (Title 23 United States Code 115). Form FHWA-45 is prepared for Federal-aid highway construction contracts greater than $0.5 million in the 50 States plus Washington, DC, and Puerto Rico. Data is reported on six major items of highway construction, together with the total materials and labor costs of the project, taken from the bid tabulation of construction items submitted by the lowest or winning bidder to the State Transportation Department. The State Transportation Departments furnish copies of the bid tabulation to the FHWA that uses the data to produce the national FHWA bid price index and related statistics.

Respondents: 52 State Transportation Departments, including the District of Columbia and Puerto Rico.

Frequency: The data is collected by the States and submitted to FHWA one time, within two weeks after the project has been awarded.

Estimated Total Annual Burden: 975 hours. There are approximately 1,300 annual projects that require about 37 of the State DOTs to complete the form. It takes an average of 45 minutes for each form.

For Further Information Contact: Ms. Claretta Duren, 202-366-4636, Department of Transportation, Federal Highway Administration, Infrastructure Core Business Unit, 400 Seventh Street, SW., Washington, DC 20590. Office hours are from 7:30 a.m. to 4:30 p.m., Monday through Friday, except Federal holidays.

2. Title: Highway Safety Improvement Programs.

OMB Control Number: 2125-0025 (Expiration Date: March 31, 2001).

Abstract: Under Sections 130(g) and 152(g) of Title 23, United States Code, each State is required to report annually to the Secretary of Transportation on the progress being made in implementing the Highway Safety Improvement Programs (Highway-Rail Grade Crossings and Hazard Elimination) and on the effectiveness of these programs. This information provides FHWA with a means for monitoring the effectiveness of these programs. It will also be used by the Congress for determining funding levels for the Highway Safety Improvement Programs and for modifying these programs. States are also required under Sections 130(d) and 152(a) of Title 23 to conduct and systematically maintain surveys to determine highway-rail grade crossings in need of improvements and to identify hazardous highway locations, sections, and elements. These surveys are the basis for establishing priorities for corrective measures, for scheduling improvements, and for evaluating the effectiveness of improvements. The States collect safety information by surveying highway-rail grade crossings and public roads for potential safety hazards. In addition, motor vehicle crash data, traffic volume data, and other highway inventory data are used by the States to identify hazards and determine which hazards would be the most cost-effective to improve.

Respondents: 52 State Transportation Departments, including the District of Columbia and Puerto Rico.

Frequency: Annually.

Estimated Total Annual Burden: 10,400 hours. It is estimated that each State, the District of Columbia and Puerto Rico spends 200 hours to provide this information to the FHWA.

For Further Information Contact: Mr. Kenneth Epstein, 202-366-2157, Department of Transportation, Federal Highway Administration, Safety Core Business Unit, 400 Seventh Street, SW., Washington, DC 20590. Office hours are from 7:30 a.m. to 4:30 p.m., Monday through Friday, except Federal holidays.

3. Title: Planning and Research Program Administration.

OMB Control Number: 2125-0039 (Expiration Date: April 30, 2001).

Abstract: Under the provisions of Title 23, United States Code, Section 505, two percent of Federal-aid highway funds in certain categories that are apportioned to the States are set aside to be used only for State planning and research (SPR funds). At least 25 percent of the SPR funds apportioned annually must be used for research, development, and technology transfer activities. In accordance with government-wide grant management procedures, a grant application must be submitted for these funds. In addition, recipients must submit periodic progress and financial reports. In lieu of Standard Form 424, Application for Federal Assistance, the FHWA uses a work program as the grant application. This includes a scope of work and budget for activities to be undertaken with FHWA planning and research funds during the next one- or two-year period. The information contained in the work program includes task descriptions, assignments of responsibility for conducting the work effort, and estimated costs for the tasks. This information is necessary to determine how FHWA planning and research funds will be utilized by the State Transportation Departments and if the proposed work is eligible for Federal participation. The content and frequency of submission of progress and financial reports specified in 23 CFR part 420 are as specified in OMB Circular A-102 and the companion common grant management regulations.

Respondents: 52 State Transportation Departments, including the District of Columbia and Puerto Rico.

Estimated Total Annual Burden: 29,120 hours (560 hours per respondent).

For Further Information Contact: Mr. Tony Solury, 202-366-5003, Department of Transportation, Federal Highway Administration, Planning and Environment Core Business Unit, 400 Seventh Street, SW., Washington, DC 20590. Office hours are from 7:30 a.m. to 4:30 p.m., Monday through Friday, except Federal holidays.

4. Title: Structure Inventory and Appraisal Sheet.

OMB Control Number: 2125-0501 (Expiration Date: April 30, 2001).

Abstract: The collection of the bridge information contained on the Structure Inventory and Appraisal Sheet (SI&A) is necessary to satisfy the requirements of Title 23 United States Code 144 and 151, and the Code of Federal Regulations, 23 Highways—Part 650, Subpart C—National Bridge Inspection Standards and Subpart D—Highway Bridge Replacement and Rehabilitation Program. The National Bridge Inspection Standards (NBIS) require bridge inspection and reporting at regular intervals for all bridges located on public roads. The NBIS information is used as a basis for setting priorities for the replacement or rehabilitation of bridges under the Highway Bridge Replacement and Rehabilitation Program (HBRRP) and for apportioning HBRRP funds to the States for bridge replacement or rehabilitation. In addition, the information is used for strategic national defense needs and for preparing the report to Congress on the status of the Nation's highway bridges and funding under the HBRRP.

Respondents: 52 State Transportation Departments, including the District of Columbia and Puerto Rico.

Frequency: Biannual inspections and annual reporting.

Estimated Total Annual Burden: 540,000 hours. The average burden is two hours to complete each SI&A sheet on the approximate 270,000 bridges that are inspected annually. The total bridge inventory (rounded to 600,000) requires biannual inspections; approximately 10 percent, or 30,000 of the 300,000 bridges that are inspected each year receive an extended inspection. Some States voluntarily inspect bridges more frequently; however, these estimates do not include this information.

For Further Information Contact: Mr. Ray McCormick, 202-366-4675, Department of Transportation, Federal Highway Administration, Infrastructure Core Business Unit, 400 Seventh Street, SW., Washington, DC 20590. Office hours are from 7:30 a.m. to 4:30 p.m., Monday through Friday, except Federal holidays.

5. Title: Emergency Relief Funding Applications.

OMB Control Number: 2125-0525 (Expiration Date: May 31, 2001).

Abstract: Section 125 of Title 23 United States Code requires States to submit applications to the FHWA for emergency relief (ER) funds. The ER funds are established for the repair or reconstruction of Federal-aid highways and Federal roads which have suffered serious damage by natural disasters over a wide area or serious damage from catastrophic failures. The information is needed for the FHWA to fulfill its statutory obligations regarding funding determinations on emergency work to repair highway facilities. The requirements covering the FHWA ER program are contained in 23 CFR part 668.

Respondents: 52 State Transportation Departments, including the District of Columbia and Puerto Rico.

Frequency: As required.

Estimated Total Annual Burden: 5,000 hours. 200 hours per application for an average of 30 annual applications.

For Further Information Contact: Mr. Mohan Pillay, 202-366-4655, Department of Transportation, Federal Highway Administration, Infrastructure Core Business Unit, 400 Seventh Street, SW., Washington, DC 20590. Office hours are from 7:30 a.m. to 4:30 p.m., Monday through Friday, except Federal holidays.

6. Title: Preparation and Execution of the Project Agreement and Modifications

OMB Control Number: 2125-0529 (Expiration Date: May 31, 2001).

Abstract: Formal agreements between State transportation departments and the FHWA are required for Federal-aid highway projects. These agreements, referred to as “project agreements” are written contracts between the State and the Federal government that define the extent of work to be undertaken and commitments made concerning a highway project. In a notice of proposed rulemaking (NPRM), published on August 31, 2000 (65 FR 52962), the FHWA proposed actions that would update and modify existing requirements to reflect statutory changes to the project agreement process mandated by section 1305 of the Transportation Equity Act for the 21st Century (TEA-21) (Public Law 105-178, 112 Stat. 107). This FHWA proposal would combine the authorization of work and execution of the project agreement for a Federal-aid project into a single action. We do not expect the basic requirement for a project agreement to change, nor do we expect changes to the current information collection burden estimates as a result of this proposal. Nonetheless, the FHWA will consider any comments received to the NPRM regarding these information collections before issuance of a final rule in this matter. A final rule would reflect any necessary changes to 23 CFR 630, subpart A. Thus, the FHWA's current submission to OMB seeking approval to renew this information collection will not reflect any revised estimates in burdens. The estimates set forth below are based on current regulations.

Respondents: 50 State Transportation Departments, the District of Columbia, the Commonwealth of Puerto Rico, the Commonwealth of the Northern Mariana Islands, and the Territories of Guam, the Virgin Islands and American Samoa

Estimated Total Annual Burden: 12,040 hours. There are an average of 215 annual agreements per respondent. Each agreement requires approximately one hour to complete.

For Further Information Contact: Mr. Jack Wasley, 202-366-4658, Department of Transportation, Federal Highway Administration, Infrastructure Core Business Unit, 400 Seventh Street, SW., Washington, DC 20590. Office hours are from 7:30 a.m. to 4:30 p.m., Monday through Friday, except Federal holidays.

7. Title: Nationwide Survey of “Public Roads” Readers

OMB Control Number: 2125-0562 (Expiration Date: May 31, 2001)

Abstract: “Public Roads” is a bimonthly magazine published by the FHWA. The FHWA conducts periodic surveys of its readers to improve the quality and content of the magazine. Executive Order 12862 requires all agencies to identify their customers, survey their satisfaction with current services, set standards for service and measure results against them. A nationwide census of readers was conducted in 1995 to establish benchmarks to gauge overall reader satisfaction and to measure, in particular, satisfaction with significant changes that had been made in the magazine's design and content, subject scope, and audience. The results of ongoing surveys will form the basis of a major, direct-mail campaign to increase the number of paid subscribers.

Respondents: Approximately 1,500 paid and complementary subscribers to “Public Roads” magazine.

Frequency: Biennially.

Estimated Total Annual Burden: 375 hours. The average burden per response is 15 minutes.

For Further Information Contact: Ms. Martha Soneira, 202-493-3468, Department of Transportation, Federal Highway Administration, Research, Development and Technology Service Business Unit, Turner-Fairbank Highway Research Center, 6300 Georgetown Pike, McLean, VA 22101. Office hours are from 7:30 a.m. to 4:30 p.m., Monday through Friday, except Federal holidays.

Electronic Access: Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's home page at http://www.nara.gov/fedreg and the Government Printing Office's database at http://www.access.gpo.gov/nara.

Authority: The Paperwork Reduction Act of 1995; 44 U.S.C. Chapter 35, as amended; and 49 CFR 1.48.

Issued on: October 31, 2000.
James R. Kabel,
Chief, Management Programs and Analysis Division.

[FR Doc. 00-28345 Filed 11-03-00; 8:45 am]

BILLING CODE 65-60-50-P